CORPORATION FOR NATIONAL AND COMMUNITY SERVICE

Agency Information Collection Activities; Submission to the Office of Management and Budget for Review and Approval; Comment Request; American Climate Corps Recruitment Form

AGENCY: Corporation for National and Community Service.

ACTION: Notice of information collection; request for comment.

SUMMARY: The Corporation for National and Community Service, operating as AmeriCorps, has submitted a public information collection request (ICR) entitled American Climate Corps Recruitment Form for review and approval in accordance with the Paperwork Reduction Act.

DATES: Written comments must be submitted to the individual and office listed in the ADDRESSES section by July 5, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Kelsey Gerber, 202-967-5659, or by email at kgerber@americorps.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on March 15, 2024 at 89 FR 18913. This comment period ended May 14, 2024. Two public comments were received from this Notice.

• Two commenters suggested increasing the character limit for the position description. AmeriCorps will not incorporate this comment because, while it understands the concern, the agency is intentional about wanting concise descriptions to avoid sharing too much information on position listings. The agency encourages programs to use longer descriptions on their own websites as part of the application, rather than on ACC.gov. ACC.gov points applicants to the program websites for more detailed information.

• Two commenters suggested revisions to the process for collecting information that would allow for editing or reusing information about each program. The agency will incorporate this comment for future versions of the form when the collection tool has the technical capabilities to allow for this.

• One commenter suggested clearer field descriptions for questions. The agency will continue to improve field descriptions for clarity in future versions.

• One commenter suggested revisions to the location category of the form so that multiple locations can be selected. AmeriCorps accepts this comment and will work to offer this function, technology permitting.

• One commenter suggested not using the term “hourly pay.” The agency accepts this comment and has revised the field to ask for hourly pay equivalent.

Title of Collection: American Climate Corps Recruitment Form.

OMB Control Number: TBD. Type of Review: New.

Respondents/Affected Public: Businesses and Organizations.

Total Estimated Number of Annual Responses: 300.

Total Estimated Number of Annual Burden Hours: 200.

Abstract: This is a new information collection. ACC.gov will be a recruitment portal where American Climate Corps programs can post information about their service opportunities, such as what the service opportunity will be, where it will occur, and how much it will pay. The website's intent is for the public to see all available American Climate Corps service opportunities in one central location and to review a description of the activity and information about the American Climate Corps program. If a member of the public would like to apply, they can follow a link posted on the service opportunity page, which will take them to the program's application. ACC.gov will not include an application to serve. ACC.gov will streamline the American Climate Corps' ability to reach a wide audience of applicants, aiming to increase participation in American Climate Corps programs and make it substantially easier for the public to find opportunities to serve.

Yasmeen Shaheen-McConnell,
Senior Advisor for Strategic Partnerships.

[FR Doc. 2024-12272 Filed 6-4-24; 8:45 am]

BILLING CODE 6050-28-P